FARM CREDIT ADMINISTRATION

Sunshine Act; Farm Credit Administration Board; Regular Meeting

AGENCY: Farm Credit Administration.

SUMMARY: Notice is hereby given, pursuant to the Government in the Sunshine Act (5 U.S.C. 552b(e)(3)), that the April 13, 2006 regular meeting of the Farm Credit Administration Board (Board) has been rescheduled. The regular meeting of the Board will be held Thursday, April 6, 2006 starting at 9 a.m. An agenda for this meeting will be published at a later date.

FOR FURTHER INFORMATION CONTACT: Roland E. Smith, Secretary to the Farm Credit Administration Board, (703) 883-4009, TTY (703) 883-4056.

ADDRESSES: Farm Credit Administration, 1501 Farm Credit Drive, McLean, Virginia 22102-5090.

Dated: March 9, 2006.
Roland E. Smith,
Secretary, Farm Credit Administration Board.

[FR Doc. 06-2460 Filed 3-9-06; 4:20 pm]

BILLING CODE 6705-01-P